DEPARTMENT OF COMMERCE

International Trade Administration

[(A-351-505)(A-583-507)(A-549-601)]

Revocation of Antidumping Duty Orders: Malleable Cast Iron Pipe Fittings From Brazil, Taiwan, and Thailand

AGENCY: Import Administration, International Trade Administration, Department of Commerce.

ACTION: Notice of revocation of antidumping duty orders: Malleable cast iron pipe fittings from Brazil, Taiwan, and Thailand.

SUMMARY: Pursuant to section 751(c) of the Tariff Act of 1930, as amended (“the Act”), the United States International Trade Commission (“the Commission”) determined that revocation of the antidumping duty orders on malleable cast iron pipe fittings from Brazil (A-351-505), Taiwan (A-583-507), and Thailand (A-549-601) is not likely to lead to continuation or recurrence of material injury to an industry in the United States within a reasonably foreseeable time (65 FR 7891 (February 16, 2000)). Therefore, pursuant to section 751(d)(2) of the Act and 19 CFR 351.222(i)(1), the Department of Commerce (“the Department”) is revoking the antidumping duty orders on malleable cast iron pipe fittings from Brazil, Taiwan, and Thailand. Pursuant to section 751(c)(6)(A)(iv) of the Act and 19 CFR 351.222(i)(2) the effective date of revocation is January 1, 2000.

FOR FURTHER INFORMATION CONTACT: Martha V. Douthit or Melissa G. Skinner, Office of Policy for Import Administration, International Trade Administration, U.S. Department of Commerce, 14th Street and Constitution Ave., NW., Washington, DC 20230; telephone: (202) 482-5050 or (202) 482-1560, respectively.

EFFECTIVE DATE: January 1, 2000.

Background

On January 4, 1999, the Department initiated and the Commission instituted sunset reviews (64 FR 364 and 64 FR 367, respectively) of the antidumping duty orders on malleable cast iron pipe fittings from Brazil, Taiwan, and Thailand pursuant to section 751(c) of the Act. As a result of these reviews, the Department found that revocation of the antidumping duty orders would likely lead to continuation or recurrence of dumping and notified the Commission of the magnitude of the margin likely to prevail were the orders to be revoked (see Final Results of Full Sunset Review: Malleable Cast Iron Pipe Fittings from Brazil, 64 FR 66886 (November 30, 1999), Final Results of Expedited Sunset Review: Malleable Cast Iron Pipe Fittings from Taiwan, 64 FR 42665 (August 5, 1999), and Final Results of Full Sunset Review: Malleable Cast Iron Pipe Fittings From Thailand, 64 FR 66884 (November 30,1999)).

On February 16, 2000, the Commission determined, pursuant to section 751(c) of the Act, that revocation of the antidumping duty orders on malleable cast iron pipe fittings from Brazil, Taiwan, and Thailand would not likely lead to continuation or recurrence of material injury to an industry in the United States within a reasonably foreseeable time (see Malleable Cast Iron Pipe Fittings From Brazil, Taiwan, and Thailand, 65 FR 7891 (February 16, 2000), and USITC Publication 3274, Inv. Nos. 731-TA-278 (REVIEW), 731-TA-280 (REVIEW), and 731-TA-348 (REVIEW) (February 2000)).

Scope

Brazil

Imports covered by this order are shipments of certain malleable cast iron pipe fittings, other than grooved from Brazil. In the original antidumping duty orders, these products were classifiable in the Tariff Schedules of the United States, Annotated, (“TSUSA”) under item numbers 610.7000 and 610.7400. These products are currently classifiable under item numbers 7307.19.00 and 7307.19.90 of the Harmonized Tariff Schedule (“HTS”).

Taiwan

Imports covered by this order are shipments of certain malleable cast iron pipe fitting, other than grooved from Taiwan. In the original antidumping duty order, this product was classifiable in the TSUSA under item numbers 610.7000 and 610.7400. This product is currently classifiable under item numbers 7307.19.90.30, 7307.19.90.60, and 7307.19.90.80 of the HTS.

Thailand

Imports covered by this order are malleable cast iron pipe fittings, advanced in condition by operations or processes subsequent to the casting process other than with grooves, or not advanced, of cast iron other than alloy cast iron, as provided for in items 610.7000 and 610.7400 of the TSUSA. The products covered by this order are currently classified under the Harmonized Trade Schedule (“HTS”) as item number 7307.19.90.30, 7307.19.90.60 and 7307.19.90.80.

The HTS item numbers for these antidumping duty orders are provided for convenience and customs purposes. The written description remains dispositive.

Determination

As a result of the determination by the Commission that revocation of these antidumping duty orders is not likely to lead to continuation or recurrence of material injury to an industry in the United States, the Department, pursuant to section 751(d)(2) of the Act and 19 CFR 351.222(i)(1), is revoking the antidumping duty orders on malleable cast iron pipe fittings from Brazil, Taiwan, and Thailand. Pursuant to section 751(c)(6)(A)(iv) of the Act and 19 CFR 351.222(i)(2)(ii), these revocations are effective January 1, 2000. The Department will instruct the U.S. Customs Service to discontinue the suspension of liquidation and collection of cash deposits rates on entries of the subject merchandise entered or withdrawn from warehouse on or after January 1, 2000. The Department will complete any pending administrative reviews of these orders and will conduct administrative reviews of subject merchandise entered prior to the effective date of revocation in response to appropriately filed requests for review.

Dated: February 22, 2000.
Robert S. LaRussa,
Assistant Secretary for Import Administration.

[FR Doc. 00-4621 Filed 2-25-00; 8:45 am]

BILLING CODE 3510-DS-P